NATIONAL SCIENCE FOUNDATION

Alan T. Waterman Award Committee; Notice of Meeting

In accordance with the Federal Advisory Committee Act (Pub. L. 92-463, as amended), the National Science Foundation announces the following meeting:

Name: Alan T. Waterman Award Committee (1172).

Date/Time: Wednesday, March 6, 2000, 9 a.m.-3 p.m., room 340.

Place: National Science Foundation, 4201 Wilson Blvd., Arlington, VA.

Type of Meeting: Closed.

Contact Person: Mrs. Susan E. Fannoney, Executive Secretary, Room 1220, National Science Foundation, 4201 Wilson Blvd, Arlington, VA 22230. Telephone: 703/292-8096.

Purpose of Meeting: To provide advice and recommendations in the selection of the Alan T. Waterman Award recipient.

Agenda: To review and evaluate nominations as part of the selection process for awards.

Reasons for Closing: The nominations being reviewed include information of a personal nature where disclosure would constitute unwarranted invasions of personal privacy. These matters are exempt under (4) and (6) of 5 U.S.C. 552b(c) of the Government in the Sunshine Act.

Dated: January 8, 2002.
Susanne Bolton,
Committee Management Officer.

[FR Doc. 02-758 Filed 1-10-02; 8:45 am]

BILLING CODE 7555-01-M